DEPARTMENT OF AGRICULTURE

Agricultural Marketing Service

[Doc. No. AMS-SC-20-0096, SC-20-327]

Revision of U.S. Standards for Grades of Watermelons

AGENCY: Agricultural Marketing Service, USDA.

ACTION: Notice and request for comments.

SUMMARY: The Agricultural Marketing Service (AMS) of the Department of Agriculture (USDA) proposes to revise the U.S. Standards for Grades of Watermelons. The proposed changes would provide a common language for trade of watermelons.

DATES: Comments must be submitted on or before May 10, 2021.

ADDRESSES: Interested persons are invited to submit written comments to the USDA, Specialty Crops Inspection Division, 100 Riverside Parkway, Suite 101, Fredericksburg, VA 22406; fax: (540) 361-1199; or at www.regulations.gov. Comments should reference the date and page numbers of this issue of the Federal Register. Comments will be posted without change, including any personal information provided. All comments received within the comment period will become part of the public record maintained by the Agency and will be made available to the public via www.regulations.gov.

FOR FURTHER INFORMATION CONTACT: David G. Horner, at the address above, by phone (540) 361-1128; fax (540) 361-1199; or email Dave.Horner@usda.gov. Copies of the proposed U.S. Standards for Watermelons are available at http://www.regulations.gov. Copies of the current U.S. Standards for Grades of Watermelons are available on the AMS website at www.ams.usda.gov/grades-standards/fruits.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: http://www.ams.usda.gov/grades-standards. AMS is proposing revisions to these U.S. Standards for Grades using the procedures that appear in part 36 of Title 7 of the Code of Federal Regulations (7 CFR part 36).

Background

On October 22, 2019, the National Watermelon Association (NWA), a trade association representing growers, retailers, and shippers, from 30 U.S. states, Canada, and Central America, petitioned the USDA to revise the watermelon standards and update the official USDA visual aids library. AMS worked closely with the NWA throughout the development of the proposed revisions, soliciting their comments and suggestions about the standards through discussion drafts and presentations. Through this collaboration, AMS also developed and issued four new watermelon visual aids. On November 20, 2020, the NWA approved the proposed revisions which are as follows:

• § 51.1973 Tolerances: For defects at shipping point, en route, or at destination for the U.S. No. 1 and U.S. No. 2 grades, the standards currently provide separate tolerances for Anthracnose and decay. Anthracnose lesions on watermelon result in loss of marketability. Due to the severity of this defect, industry requested the tolerance section be revised to reduce the amount of Anthracnose permitted in each grade. The proposed revisions will remove the 3% tolerance for Anthracnose at shipping point and remove the 5% tolerance for Anthracnose en route or at destination. The tolerance for decay would be revised to establish a total tolerance of 1% and 2% respectively for shipping point and en route or at destination for Anthracnose and decay.

• § 51.1976 Size: The current standard shows average weights of watermelons ranging from 20 to 42 pounds. Smaller watermelons are much more common in the marketplace than was once the case, so AMS is proposing to align weights with current marketing trends by adjusting the average weights to 10 to 34 pounds.

• § 51.1985 Permanent defects and § 51.1986 Condition defects: The current standard lists sunburn as a condition defect, primarily based on the past practice of shipping watermelons in open top trailers. Today, watermelons are generally shipped in enclosed trailers. Melons generally only have sunburn due to exposure in the field. Therefore, AMS proposes to remove sunburn as a condition defect and add sunburn as a permanent defect.

• § 51.1978 and § 51.1982: In § 51.1978, AMS proposes to correct the typo in the definition for fairly well formed to read “the perfect type for the variety” instead of “the perfect type of the variety.” In § 51.1982, AMS proposes to add the missing heading identifying the definition: “Seedless watermelons.”

• § 51.1987 Classification of defects: AMS proposes to base the scoring guides for sunburn, hail, rind worm injury, scars (and other similar defects), and transit rubs on a 15-pound melon instead of a 25-pound melon, again reflecting that smaller melons are prevalent in today's markets. The most common size melon sold in the market is 15 pounds, followed by 11 and 18 pounds. In addition, at industry's request, AMS proposes to base the scoring guide for hollow heart on any size melon instead of 25 pounds. Lastly, also at industry's request, AMS proposes to limit the scoring of rind worm injury on the ground spot. Consumers tend not to purchase a watermelon based only on the ground spot or any rind worm injury that might be on it. Therefore, AMS proposes that rind worm injury occurring on the ground spot is only scorable under the definition of damage when seriously detracting from the appearance of the melon; rind worm injury occurring on the ground spot is not scorable as serious damage.

• AMS proposes to remove all metric measurements from the standards. The U.S. watermelon industry does not use metrics and finds them a distraction in the standards.

The proposed revisions will ensure the standards align with current marketing trends.

A 60-day period is provided for interested persons to submit comments on the proposed grade standards. Copies of the proposed revised U.S. Standards for Grades of Watermelons are available at http://www.regulations.gov. After the 60-day comment period, AMS will proceed in accordance with 7 CFR 36.3(a)(1-3).

Authority: 7 U.S.C. 1621-1627.

Bruce Summers,
Administrator, Agricultural Marketing Service.

[FR Doc. 2021-05044 Filed 3-10-21; 8:45 am]

BILLING CODE P